DEPARTMENT OF LABOR

Employment and Training Administration

Investigation Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 25, 2000.

Interested persons are invited to submit written comments regarding the subject matter of the investigations to the Director, Division of Trade Adjustment Assistance, at the address shown below, not later than February 25, 2000.

The petitions filed in this case are available for inspection at the Office of the Director, Division of Trade Adjustment Assistance, Employment and Training Administration, U.S. Department of Labor, 200 Constitution Avenue, NW, Washington, DC 20210.

Signed at Washington, DC, this 24th day of January, 2000.
Grant D. Beale,
Program Manager, Division of Trade Adjustment Assistance.

Appendix

Petitions Instituted on 01/24/2000
TA-W | Subject firm (petitioners) | Location | Date of petition | Product(s)
37,263 | London International (Comp) | Dothan AL | 01/10/2000 | Test and Package Condoms
37,263 | Fayette Glove Co. (Wkrs) | Fayette, AL | 01/11/2000 | Surgical Gloves
37,264 | KTI Energy of Martinsville (Comp) | Martinsville, VA | 01/12/2000 | Steam
37,265 | O'Bryan Brothers, Inc (Wkrs) | Richland Center, WI | 01/10/2000 | Sew Ladies' Lingerie, Slips, Robes
37,266 | Tecumseh (Comp) | Trenton, TN | 01/10/2000 | Hermetic Motors/Stators
37,267 | Hass Tailoring (UNITE) | Baltimore, MD | 01/11/2000 | Men's Suits, Sportcoats, Trousers
37,268 | Hampton Industries, Inc (Wkrs) | Warrenton, NC | 12/02/1999 | Knit Tops
37,269 | Strong Wood Products (Comp) | Strong, ME | 01/12/2000 | Toothpicks
37,270 | Charles Industries, Ltd (Comp) | Jasonville, IN | 12/17/2000 | Small Transformers
37,271 | Dynamic Details, Inc (Comp) | Colorado Spring, CO | 01/11/2000 | Printed Wiring Boards
37,272 | Winpak Portion Packaging (USWA) | Bristol, PA | 01/07/2000 | Plastic Packaging
37,273 | Cumberland Apparel (Wkrs) | Monticello, KY | 01/10/2000 | Children's Sleepwear
37,274 | Fasco Motors Group (Wkrs) | Eldon, MO | 01/04/2000 | Electric Motors
37,275 | Walls Industries, Inc (Comp) | Carthage, MO | 01/04/2000 | Work Clothing
37,276 | Gatesville Walls Ind. (Comp) | Gatesville, TX | 01/12/2000 | Insulated Clothing
37,277 | Partlow-West Co (The) (Comp) | New Hartford, NY | 01/13/2000 | Temperature Controllers
37,278 | Cheraw Dyeing and Finish (Comp) | Cheraw, SC | 01/11/2000 | Dye Woven Fabrics
37,279 | Sterling Diagnostic (Wkrs) | Brevard, NC | 01/06/2000 | Xray Film and Polyester Base
37,280 | John Plant Co (The) (Comp) | Ramseur, NC | 01/13/2000 | Industrial Work Gloves
37,281 | Appleton Papers, Inc (Comp) | Camp Hill, PA | 12/21/1999 | Carbonless Paper

[FR Doc. 00-3506 Filed 2-14-00; 8:45 am]

BILLING CODE 4510-30-M